DEPARTMENT OF COMMERCE

National Oceanic and Atmospheric Administration

DEPARTMENT OF THE INTERIOR

Fish and Wildlife Service

RIN 0648-XY95

Proposed Issuance of Incidental Take Permits to the Washington Department of Fish and Wildlife for State of Washington Wildlife Areas

AGENCIES: National Marine Fisheries Service (NMFS), National Oceanic and Atmospheric Administration, (NOAA) Commerce; Fish and Wildlife Service (FWS), Interior.

ACTION: Notice of intent to conduct a 30-day public scoping period and prepare an environmental impact statement.

SUMMARY: The U.S. Fish and Wildlife Service (FWS) and the National Marine Fisheries Service (NMFS), collectively the Services, advise interested parties of our intent to conduct public scoping under the National Environmental Policy Act (NEPA) to gather information to prepare an environmental impact statement (EIS) related to incidental take permit (ITP) applications from the Washington Department of Fish and Wildlife (WDFW) for incidental take of species listed under the Endangered Species Act (ESA), as well as unlisted species should they become listed during the term of the proposed permit. The WDFW has identified specific land management and recreation activities that currently occur on state Wildlife Areas that may cause incidental take. In support of the ITP applications, the WDFW is proposing to implement a habitat conservation plan (HCP) on approximately 900,000 acres of their state Wildlife Areas. The term of the proposed HCP and ITP's will occur after the public scoping process.

DATES: Written comments must be received on or before November 1, 2010. Four public scoping meetings will be held to introduce the proposed action, explain the NEPA public participation process, and solicit public comment. The public scoping meetings will be held on October 19, 20, 26, and 27, 2010, from 6:30 p.m. to 8:30 p.m. at the following locations:

1. October 19: Everett Community College, 2000 Tower Street, Whitehorse Hall, Room 105, Everett, WA 98201.

2. October 20: FWS and NMFS Office, 510 Desmond Drive, Suite 102, Lacey, WA 98503.

3. October 26: Hal Homes Center, 209 N. Ruby Street, Teanaway Room, Ellensburg, WA 98926.

4. October 27: Spokane Valley Center Place, 2426 N. Discovery Place, Room 109, Spokane, WA 99206.

ADDRESSES: You may submit comments by one of the following methods:

1. Verbally or in writing at the public scoping meetings;

2. U.S. mail or hand delivery to : Mr. David Molenaar, National Marine Fisheries Service, 510 Desmond Drive, SE, Suite 103, Lacey, WA 98503; or Mr. Mark Ostwald, U.S. Fish and Wildlife Service, Washington Fish and Wildlife Office, 510 Desmond Drive, SE, Suite 102, Lacey, WA 98503

3. Email to Wdfwwlareahcp@fws.gov.

FOR FURTHER INFORMATION CONTACT: Mr. Mark Ostwald with the FWS at (360) 753-9564, or at Mark_Ostwald@fws.gov or Mr. David Molenaar with the NMFS at (360) 753-9456 or at David.Molenaar@noaa.gov, or on the Internet at: http://www.fws.gov/wafwo.

SUPPLEMENTARY INFORMATION: In accordance with section 10(a)(2)(A) of the ESA of 1973, as amended (U.S.C. 1531 et seq.), the WDFW is preparing a HCP for their Wildlife Areas in support of their ITP applications to the Services to incidentally take the following ESA listed species under FWS jurisdiction: marbled murrelet, northern spotted owl, western snowy plover, Oregon silverspot butterfly, golden paintbrush, howellia, Spalding's silene, Ute ladies' tresses, Columbian white-tailed deer, gray wolf, grizzly bear, lynx, pygmy rabbit, and the bull trout.

The applications also request incidental take authorization for the following species under NMFS jurisdiction: chinook salmon Evolutionarily Significant Units (ESUs) in Puget Sound, the Lower Columbia River, Upper Columbia River spring-run, Upper Willamette River, Snake River fall-run and the Snake River spring/summer-run; chum salmon ESUs in the Columbia River and Hood Canal (summer run); coho salmon ESUs in the Lower Columbia River; steelhead Distinct Population Segments (DPSs) in Puget Sound, Snake River Basin, the Lower Columbia River, Middle Columbia River, Upper Columbia River, and the Upper Willamette River; sockeye salmon ESUs in Ozette Lake and the Snake River; the Southern DPS of the pacific eulachon; and the Southern DPS of the green sturgeon.

The WDFW also requests incidental take for the following unlisted species under FWS jurisdiction should they become listed during the term of the HCP: burrowing owl, greater sage-grouse, sharp-tailed grouse, slender-billed white breasted nuthatch, streak horned lark, northern leopard frog, Oregon spotted frog, Rocky Mountain tailed frog, sagebrush lizard, striped whipsnake, Van Dyke's salamander, western pond turtle, mardon skipper, Taylors checkerspot , valley silverspot, westslope cutthroat trout, fisher, Townsends western big-eared bat, Washington ground squirrel and the western pocket gopher.

The HCP proposes to cover approximately 900,000 acres within 32 state Wildlife Areas managed by WDFW for specific covered activities that the WDFW conducts or allows on the Wildlife Areas including: horseback riding and dog field trial events; construction, maintenance, removal, and operation of upland infrastructures, water control structures, and water crossing structures; non-chemical weed control; forest management; livestock grazing and associated activities; agriculture and associated activities; irrigation; upland bird stocking; wildlife feeding; routine habitat management; and habitat restoration.

The WDFW manages 32 designated Wildlife Areas across a broad and diverse spectrum of habitats throughout Washington State. These Wildlife Areas are managed by the WDFW for the purposes of fish and wildlife conservation and for recreational opportunities. The different Wildlife Areas include forest and woodlands, wetlands, prairie, savanna and shrub steppe, upland grasslands, agricultural, and riparian habitats. The WDFW has identified specific goals and objectives for each Wildlife Areas depending upon the wildlife species present, the purpose for which the land was acquired, and the available outdoor recreational opportunities.

The draft HCP in support of the ITP applications will describe the impacts of land management and recreational activities on proposed covered species and detail a conservation strategy to minimize and mitigate those impacts to the maximum extent practicable. With technical assistance from the Services, WDFW will develop habitat conservation measures for fish and wildlife and their associated habitats. The Services are responsible for determining whether the HCP satisfies the ESA section 10 permit issuance criteria.

Section 9 of the ESA and implementing regulations prohibit the taking of endangered species. The term “take” is defined under the ESA (16 U.S.C. 1532(19)) as harass, harm, pursue, hunt, shoot, wound, kill, trap, capture, or collect, or to attempt to engage in any such conduct. “Harm“ is defined by FWS regulation to include significant habitat modification or degradation where it actually kills or injures wildlife by significantly impairing essential behavioral patterns, including breeding, feeding, or sheltering (50 CFR 17.3). “Harm” is defined by NMFS regulation to include significant habitat modification or degradation where it actually kills or injures fish or wildlife by significantly impairing essential behavioral patterns, including breeding, feeding, spawning, migrating, rearing, or sheltering (64 FR 60727, November 8, 1999).

Section 10 of the ESA and its implementing regulations specify the requirements for the issuance of ITPs to non-Federal applicants for the take of endangered and threatened species. Any proposed take must be incidental to otherwise lawful activities and must not appreciably reduce the likelihood of the survival and recovery of the species in the wild. In addition, the applicant must prepare a HCP describing the impact that will likely result from such taking, what steps will be taken to minimize and mitigate the impacts of the take, the funding available to implement such steps, alternatives to such taking, and the reason such alternatives are not being implemented.

Environmental Impact Statement

NEPA (42 U.S.C. 4321 et seq.) requires that Federal agencies conduct an environmental analysis of their proposed actions to determine if the actions may significantly affect the human environment. The Services have determined that an EIS should be prepared under NEPA for these two ITP requests. The Services will prepare the EIS as joint lead agencies (40 CFR 1506.2). It is anticipated that the WDFW will also adopt the EIS for purposes of compliance with the State of Washington Environmental Policy Act.

We will conduct an environmental review of the permit applications, including the HCP. We will prepare an EIS in accordance with NEPA requirements, as amended (40 U.S. C. 4321 et seq.) and NEPA implementing regulations (40 CFR 1500-1508), and in accordance with other Federal laws and regulations.

The primary purpose of the scoping process is for the public to assist the Services in developing the EIS by identifying issues and alternatives related to the applicant's proposed action. The scoping meetings will allocate time for presentations by the Services and WDFW, and also for receiving comments from the public. The public is encouraged to attend a public scoping meeting at 1 of the 4 locations.

The Services request data, comments, pertinent information, or suggestions from the public, other concerned governmental agencies, the scientific community, Tribes, industry, or any other interested party regarding the proposed permit actions discussed in this notice. We will consider all comments we receive in complying with the requirements of NEPA and in development of the HCP and ITPs. We particularly seek specific comments concerning:

(1) The direct, indirect, and cumulative effects that implementation of any reasonable alternative could have on endangered and threatened species, and other unlisted species and their habitats;

(2) Other reasonable alternatives (in addition to the HCP), and their associated effects;

(2) Measures that would minimize and mitigate potentially adverse effects of the proposed project;

(3) Baseline environmental conditions and/or important species observations within the WDFW wildlife areas;

(4) The term of the ITPs;

(5) Covered activities that should or should not be part of the HCP;

(6) Wildlife areas that should or should not be part of the HCP;

(7) Species that should or should not be on the ITPs;

(8) Biological information regarding requested covered species;

(9) Monitoring and adaptive management that might be relevant to the project; and

(10) Other plans or projects that might be relevant to this project.

The EIS will analyze the effects that the various alternatives would have on the proposed covered species as well as the other aspects of the human environment, including but not limited to geology and soils, land use, air quality, water quality, wetlands, socioeconomics, recreation, cultural resources, noise, visual resources, climate change, and the cumulative impacts of the alternatives. A notice of availability for the draft EIS is expected to be published in the Federal Register in fall 2011, when it will be available for public review and comment.

Special Accommodation

Persons needing reasonable accommodations to attend and participate in the public meeting should contact Mark Ostwald, FWS, at 360-753- 9564 or David Molenaar, NMFS, at 360-753-9456. To allow sufficient time to process requests, please call no later than 1 week before the public meeting. Information regarding the applicant's proposed action is available in alternative formats upon request.

Dated: September 28, 2010.
Susan Pultz,
Acting Chief, Endangered Species Division, National Marine Fisheries Service.
Dated: September 28, 2010.
Theresa E. Rabot,
Deputy Regional Director, Region 1, U.S. Fish and Wildlife Service.

[FR Doc. 2010-24692 Filed 9-30-10; 8:45 am]

BILLING CODES 3510-22-S, 4310-55-S